DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than April 6, 2000.

Interested persons are invited to submit written comments regarding the subject matter of the investigations to the Director, Division of Trade Adjustment Assistance, at the address shown below, not later than April 6, 2000.

The petitions filed in this case are available for inspection at the Office of the Director, Division of Trade Adjustment Assistance, Employment and Training Administration, U.S. Department of Labor, 200 Constitution Avenue, N.W., Washington, D.C. 20210.

Signed at Washington, D.C. this 28th day of February, 2000.
Grant D. Beale,
Program Manager, Division of Trade Adjustment Assistance.

Appendix.—Petitions Instituted on 02/28/2000
TA-W | Subject firm (petitioners) | Location | Date of petition | Product(s)
37,383 | Philadelphia Gear Corp. (IAMAW) | King of Prussia, PA | 02/07/2000 | Gears & Gear Boxes—Power Transmissions.
37,384 | FNA Acquisitions (Co.) | Mooresville, NC | 02/11/2000 | Textile Prints & Dyed Fabrics.
37,385 | Kryptonite Corporation (Co.) | Canton, MA | 01/11/2000 | Locks—Motorcycle and Bicycle.
37,386 | Southside Sportswear (Co.) | Florence, SC | 02/15/2000 | Shirts, Tank Tops, Shorts, Pants.
37,387 | Timbergon (Wkrs) | Redmond, OR | 02/10/2000 | Door and Window Jambs.
37,388 | Sullivan Die Casting (Wkrs) | Kenilworth, NJ | 02/09/2000 | Auto Mirror Castings, Sunroof Castings.
37,389 | Langenberg Hat (Wkrs) | New Haven, MO | 02/11/2000 | Hats and Caps.
37,390 | Target (Wkrs) | Mt. Carmel, IL | 02/18/2000 | Retail Store.
37,391 | Hewlett Packard (Wkrs) | San Jose, CA | 02/08/2000 | Opticouplers.
37,392 | Alphabet (UNITE) | El Paso, TX | 02/10/2000 | Wiring Harness.
37,393 | Preston Trucking Co. (GT) | Pittsburgh, PA | 02/11/2000 | Trucking—General Freight.
37,394 | Corporate Expressions (Co.) | Salisbury, NC | 02/14/2000 | Golf Shirts, Athletic Wear.
37,395 | Johnson Matthey/Allied (Wkrs) | Chippewa Falls, WI | 02/15/2000 | Plastic Laminated Semiconductor Packages.
37,396 | Elliott Corporation (Wkrs) | Gillett, WI | 02/10/2000 | Safety Clothing.
37,397 | Katz Lace Corp. (Wkrs) | New York, NY | 02/08/2000 | Lace.
37,398 | Kenro, Inc. (Co.) | Fredonia, WI | 02/17/2000 | Fiberglass.
37,399 | Tanner Companies Limited (Co.) | Rutherfordton, NC | 02/16/2000 | Ladies' Apparel.

[FR Doc. 00-7477 Filed 3-24-00; 8:45 am]

BILLING CODE 4510-30-M